DEPARTMENT OF JUSTICE

Antitrust Division

Notice Pursuant to the National Cooperative Research and Production Act of 1993—Development of Voluntary Standard (ANSI/ROV—1—200X) for Recreational Off-Highway Vehicles

Correction

In notice document E9-9395 appearing on page 18747 in the issue of April 24, 2009, make the following corrections:

1. On page 18747, the subject is corrected to read as set forth above.

2. On the same page, in the second column, in the final paragraph, “September 12, 200 (7 FR 53043)” is corrected to read “September 12, 2008 (73 FR 53043)”.

[FR Doc. Z9-9395 Filed 5-5-09; 8:45 am]

BILLING CODE 1505-01-D